DEPARTMENT OF COMMERCE

International Trade Administration

[A-570-979]

Crystalline Silicon Photovoltaic Cells, Whether or Not Assembled Into Modules, From the People's Republic of China: Initiation of Antidumping Duty New Shipper Review

AGENCY: Enforcement and Compliance, International Trade Administration, Department of Commerce.

DATES: Effective July 28, 2014.

SUMMARY: The Department of Commerce (“Department”) determined that the request described below for a new shipper review of the antidumping duty order on crystalline silicon photovoltaic cells, whether or not assembled into modules, (“solar cells”) from the People's Republic of China (“PRC”) meets the statutory and regulatory requirements for initiation. The period of review (“POR”) for the new shipper review is December 1, 2013 through May 31, 2014.

FOR FURTHER INFORMATION CONTACT: Lilit Astvatsatrian, AD/CVD Operations, Office IV, Enforcement and Compliance, International Trade Administration, U.S. Department of Commerce, 14th Street and Constitution Avenue NW., Washington, DC 20230; telephone: (202) 482-6412.

SUPPLEMENTARY INFORMATION:

Background

On December 7, 2012, the Department published the antidumping duty order on solar cells from the PRC.¹ On June 26, 2014, pursuant to section 751(a)(2)(B)(i) of the Tariff Act of 1930, as amended (the “Act”), and 19 CFR 351.214(c), the Department received a timely request for a new shipper review from Hengdian Group DMEGC Magnetics Co., Ltd. (“DMEGC”).² On July 9, 2014, the Department received entry data from U.S. Customs and Border Protection (“CBP”) related to DMEGC's request for a new shipper review.³ We also requested entry documents from CBP in order to confirm certain information reported by DMEGC. The continuation of the new shipper review will be contingent upon confirmation of the information reported in the initiation request.

¹ See Crystalline Silicon Photovoltaic Cells, Whether or Not Assembled Into Modules, From the People's Republic of China: Amended Final Determination of Sales at Less Than Fair Value, and Antidumping Duty Order, 73 FR 73018 (December 7, 2012).

² See Letter from DMEGC to the Secretary of Commerce “Crystalline Silicon Photovoltaic Cells, Whether or Not Assembled Into Modules, From the People's Republic of China: New Shipper Review Request,” dated June 26, 2014 (“NSR Request”) .

³ See Letter to All Interested Parties “Request for a New Shipper Review of Crystalline Silicon Photovoltaic Cells, Whether or Not Assembled Into Modules, from the People's Republic of China 12/01/2013-5/31/14: Hengdian Group DMEGC Magnetics Co., Ltd.,” dated July 11, 2014 (“CBP Data”).

DMEGC stated that it is the producer and exporter of the subject merchandise upon which its request for a new shipper review is based. Pursuant to section 751(a)(2)(B)(i)(I) of the Act and 19 CFR 351.214(b)(2)(i), DMEGC certified that it did not export solar cells to the United States during the period of investigation (“POI”). In addition, pursuant to section 751(a)(2)(B)(i)(II) of the Act and 19 CFR 351.214(b)(2)(iii)(A), DMEGC certified that, since the initiation of the investigation, it has never been affiliated with any PRC exporter or producer who exported solar cells to the United States during the POI, including those not individually examined during the investigation. As required by 19 CFR 351.214(b)(2)(iii)(B), DMEGC also certified that its export activities were not controlled by the central government of the PRC.⁴

⁴ See NSR Request, at Exhibit 1.

In addition to the certifications described above, pursuant to 19 CFR 351.214(b)(2)(iv), DMEGC submitted documentation establishing the following: (1) The date on which it first shipped solar cells to the United States; (2) the volume of its first shipment; and (3) the date of its first sale to an unaffiliated customer in the United States.⁵

⁵ Id.

The Department conducted a CBP database query and confirmed by examining the results that the sale of subject merchandise that DMEGC reported to the Department entered the United States during the POR specified by the Department's regulations.⁶

⁶ See 19 CFR 351.214(g)(1)(i)(B).

Initiation of New Shipper Review

Pursuant to section 751(a)(2)(B) of the Act, 19 CFR 351.214(b), and based on the information on the record, the Department finds that DMEGC meets the threshold requirements for initiation of a new shipper review of its shipment(s) of solar cells from the PRC.⁷ However, if the information supplied by DMEGC is later found to be incorrect or insufficient during the course of this proceeding, the Department may rescind the review or apply facts available pursuant to section 776 of the Act, depending upon the facts on the record. The POR for the new shipper review of DMEGC is December 1, 2013, through May 31, 2014.⁸ Pursuant to 19 CFR 351.221(c)(1)(i), the Department will publish the notice of initiation of a new shipper review no later than the last day of the month following the anniversary or semiannual anniversary month of the order. The Department intends to issue the preliminary results of this new shipper review no later than 180 days from the date of initiation, and the final results of this review no later than 90 days after the date the preliminary results are issued.⁹

⁷ See, generally, Memorandum to the File through Abdelali Elouaradia, Director, AD/CVD Operations, Office IV “Initiation of Antidumping New Shipper Review of Crystalline Silicon Photovoltaic Cells, Whether or Not Assembled Into Modules, from the People's Republic of China: Hengdian Group DMEGC Magnetics Co., Ltd., Initiation Checklist,” dated concurrently with this notice (“Initiation Checklist”).

⁸ See 19 CFR 351.214(g)(1)(i)(B).

⁹ See section 751(a)(2)(B)(iv) of the Act.

It is the Department's usual practice, in cases involving non-market economies (“NME”), to require that a company seeking to establish eligibility for an antidumping duty rate separate from the NME-wide entity rate provide evidence of de jure and de facto absence of government control over the company's export activities. Accordingly, we will issue a questionnaire to DMEGC which will include a separate rate section. The new shipper review of DMEGC will proceed if the response provides sufficient indication that the exporter is not subject to either de jure or de facto government control with respect to its exports of solar cells.

We will instruct CBP to allow, at the option of the importer, the posting, until the completion of the review, of a bond or security in lieu of a cash deposit for certain entries of the subject merchandise from DMEGC in accordance with section 751(a)(2)(B)(iii) of the Act and 19 CFR 351.214(e). Because DMEGC exports and produces the subject merchandise, the sales of which form the basis of its new shipper review request, we will instruct CBP to permit the use of a bond only for entries of subject merchandise which DMEGC exported and produced.

Interested parties requiring access to proprietary information in this new shipper review should submit applications for disclosure under administrative protective order in accordance with 19 CFR 351.305 and 351.306.

This initiation and notice are published in accordance with section 751(a)(2)(B) of the Act and 19 CFR 351.214 and 351.221(c)(1)(i).

Dated: July 18, 2014.
Gary Taverman,
Senior Advisor, for Antidumping and Countervailing Duty Operations.

[FR Doc. 2014-17504 Filed 7-25-14; 8:45 am]

BILLING CODE 3510-DS-P